NATIONAL SCIENCE FOUNDATION

Biological Sciences Advisory Committee; Notice of Meeting

In accordance with the Federal Advisory Committee Act (Pub. L., 92-463, as amended), the National Science Foundation announces the following meeting:

Name: Biological Sciences Advisory Committee (#1110).

Date and Time: March 13, 2014 8:30 a.m.—5:00 p.m., March 14, 2014 8:30 a.m.—2:00 p.m.

Place: National Science Foundation, 4201 Wilson Blvd., Room 1235, Arlington, VA 22230.

All visitors must contact the Directorate for Biological Sciences [call 703-292-8400 or send an email message to erchiang@nsf.gov] at least 24 hours prior to the meeting to arrange for a visitor's badge. All visitors must report to the NSF visitor desk located in the lobby at the N. 9th and N. Stuart Streets entrance on the day of the meeting to receive a visitor's badge.

Type of Meeting: Open.

Contact Person: Charles Liarakos, National Science Foundation, 4201 Wilson Boulevard, Room 605, Arlington, VA 22230, Tel No.: (703) 292-8400.

Purpose of Meeting: The Advisory Committee for the Directorate for Biological Sciences provides advice, recommendations, and oversight concerning major program emphases, directions, and goals for the research-related activities of the divisions that make up BIO.

Agenda: Agenda items will include the Emerging Frontiers Committee of Visitors report, NEON and macrosystems biology, Cognitive Science & Neuroscience and the BRAIN, biological data, and other matters relevant to the Directorate for Biological Sciences.

Dated: February 18, 2014.
Suzanne Plimpton,
Acting Committee Management Officer.

[FR Doc. 2014-03760 Filed 2-21-14; 8:45 am]

BILLING CODE 7555-01-P